NUCLEAR REGULATORY COMMISSION

Availability of Technical Study of Spent Fuel Pool Accident Risk at Decommissioning Nuclear Power Plants

AGENCY: Nuclear Regulatory Commission.

ACTION: Notice of availability of report.

SUMMARY: The Nuclear Regulatory Commission (NRC) has issued its “Technical Study of Spent Fuel Pool Accident Risk at Decommissioning Nuclear Power Plants.”

As the number of power reactors involved in the decommissioning process increases, the ability to address regulatory issues generically has become more important. After a nuclear power plant permanently shuts down and the reactor is defueled, the traditional accident sequences that dominate operating reactor risk are no longer applicable. The predominant source of risk remaining at permanently shutdown plants involves accidents associated with spent fuel stored in the spent fuel pool.

Following a Commission meeting held on March 17, 1999, the NRC staff formed a technical working group to evaluate spent fuel pool accident risk at decommissioning plants. The staff set out to develop a risk-informed technical basis that could be used to develop rulemaking and to establish a predictable method for reviewing future exemption requests and to identify the need for any research in areas of large uncertainty. The staff intends for this approach to meet the NRC outcome goals of maintaining safety, reducing unnecessary regulatory burden, increasing public confidence, and improving efficiency and effectiveness.

Preliminary versions of the study were issued for public comment and technical review in June 1999 and February 2000. A public workshop to discuss the report was held in July 1999. Comments received from industry and public stakeholders, the Advisory Committee on Reactor Safety, and other technical reviewers have been considered in preparing the report. Quality assessment of the staff's preliminary analysis has been aided by a small panel of human reliability analysis experts who evaluated the human performance analysis assumptions, methods, and modeling. A broad quality review was carried out at the Idaho National Engineering and Environmental Laboratory.

ADDRESSES: The report is available at the NRC Public Document Room,11545 Rockville Pike, Rockville, Maryland, and through the NRC Agencywide Documents Access and Management System (ADAMS) at ML010160527 for the report and ML010160532 for the appendices. The report is also available via the Internet on the NRC web page at http://www.nrc.gov/NRC/REACTOR/DECOMMISSIONING/SF/index.html. Requests for single copies may be made to David J. Wrona, U.S. Nuclear Regulatory Commission, Mail Stop O-7C2, Washington, DC 20555-0001 or by telephone at 301-415-1924 or email to djw1@nrc.gov.

FOR FURTHER INFORMATION CONTACT: George Hubbard, U.S. NRC, Office of Nuclear Reactor Regulation, Mail Stop O-11A11, Washington, DC 20555-0001; telephone 301-415-2870; email: gth@nrc.gov.

Dated at Rockville, Maryland, this 17th day of January, 2001.
For the Nuclear Regulatory Commission.
Stuart A. Richards,
Director, Project Directorate IV & Decommissioning, Division of Licensing Project Management, Office of Nuclear Reactor Regulation.

[FR Doc. 01-1985 Filed 1-22-01; 8:45 am]

BILLING CODE 7590-01-P